SMALL BUSINESS ADMINISTRATION

[Declaration of Disaster #3633]

State of West Virginia

As a result of the President's major disaster declaration on September 20, 2004, I find that Brooke, Hancock, Marshall, Ohio, Pleasants, Tyler, Wetzel, and Wirt Counties in the State of West Virginia constitute a disaster area due to damages caused by severe storms, flooding and landslides occurring on September 16, 2004, and continuing. Applications for loans for physical damage as a result of this disaster may be filed until the close of business on November 19, 2004, and for economic injury until the close of business on June 20, 2005, at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Calhoun, Doddridge, Harrison, Jackson, Marion, Monongalia, Ritchie, Roane and Wood in the State of West Virginia; Belmont, Columbiana, Jefferson, Monroe, and Washington Counties in the State of Ohio; and Beaver, Greene, and Washington Counties in the Commonwealth of Pennsylvania.

The interest rates are:

| Percent
For Physical Damage:
Homeowners with credit available elsewhere | 6.375
Homeowners without credit available elsewhere | 3.187
Businesses with credit available elsewhere | 5.800
Businesses and non-profit organizations without credit available elsewhere | 2.900
Others (including non-profit organizations) with credit available elsewhere | 4.875
For Economic Injury:
Businesses and small agricultural cooperatives without credit available elsewhere | 2.900

The number assigned to this disaster for physical damage is 363306. For economic injury the number is 9ZZ600 for West Virginia; 9ZZ700 for Ohio; and 9ZZ800 for Pennsylvania.

(Catalog of Federal Domestic Assistance Program Nos. 59002 and 59008.)
Dated: September 21, 2004.
Herbert L. Mitchell,
Associate Administrator for Disaster Assistance.

[FR Doc. 04-21907 Filed 9-29-04; 8:45 am]

BILLING CODE 8025-01-P